Title 3—

The President

Proclamation 10187 of April 23, 2021

World Intellectual Property Day, 2021

By the President of the United States of America

A Proclamation

This year, on World Intellectual Property Day, we celebrate the innovators and creators who enrich our lives and create the products, services, companies, and industries of tomorrow. We especially recognize the power of intellectual property protection in allowing our small businesses to compete, thrive, and play their important role as the heart and soul of our communities and the engines of our economic progress.

Small businesses are critical to our success as a Nation. They make up 90 percent of businesses in the United States, employ nearly half of America's private sector workers, and create two-thirds of new jobs, and bring opportunity to every corner of our Nation. Inventions born in the garages of small towns can have just as much impact as those developed in high-tech labs. This year's World Intellectual Property Day highlights the critical role these small businesses play in our society and the ways intellectual property can help support their continued growth and resilience.

Every small business starts with one person's or one family's dream. When that dream is coupled with grit and determination, ideas turn into products, brands, and creative works. Pair those ideas with the strength of our intellectual property system and you have the foundation necessary for new business opportunities, increased employment, and greater economic prosperity.

The various types of intellectual property—trademarks, copyrights, patents, and trade secrets—help to ensure that small businesses will be compensated for, and be able to prosper from their creations and their customer service. Without these protections, a small business's success could easily prove to be its undoing, as unscrupulous competitors could seek to copy, steal, and unduly profit from the small business's ideas and its hard-earned customer goodwill.

We must also recognize the important role science and technology play in safeguarding our intellectual property. Investing in and strengthening our digital infrastructure promotes innovation that helps small businesses and protects the rights of our citizens.

This year marks the 75th anniversary of the signing of the Lanham Act, which is this Nation's fundamental trademark law. Trademark protection enables small businesses to benefit from the investments that they make to establish brand awareness and brand loyalty. In addition, trademarks help to protect consumers from counterfeits and other deceitful practices that defraud them and endanger their health and safety.

When the pandemic hit, singers, songwriters, and artists from all across America used their talents to lift us up, and to inspire us to support one another in these difficult times. Copyright protection rewards them for their creativity and allows them to continue to create.

We are proud to be a Nation of inventors and my Administration is committed to bolstering American industrial and innovative strength so we can continue to lead in making the cutting-edge products and services of tomorrow. My Administration is also committed to giving everyone, no matter where they are from, a chance to succeed and to contribute to creating the strongest, most resilient, innovative economy in the world.

NOW, THEREFORE, I, JOSEPH R. BIDEN JR., President of the United States of America, by virtue of the authority vested in me by the Constitution and the laws of the United States, do hereby proclaim April 26, 2021, as World Intellectual Property Day. I call upon all Americans to observe this day by supporting their neighborhood small businesses and celebrating the creativity, hard work, and passion that lies behind each one of them.

IN WITNESS WHEREOF, I have hereunto set my hand this twenty-third day of April, in the year of our Lord two thousand twenty-one, and of the Independence of the United States of America the two hundred and forty-fifth.

[FR Doc. 2021-09001

Filed 4-27-21; 8:45 am]

Billing code 3295-F1-P